DEPARTMENT OF ENERGY

Federal Energy Regulatory Commission

[Docket No. RP00-233-002]

Midwestern Gas Transmission Company; Notice of Compliance Filing

July 14, 2000.

Take notice that on July 7, 2000, Midwestern Gas Transmission Company (Midwestern), tendered for filing as part of its FERC Gas Tariff, Second Substitute Fourth Revised Sheet No. 90 and Second Substitute Second Revised Sheet No. 98. Midwestern requests an effective date of May 1, 2000.

Midwestern states that this filing is in compliance with the Commission's June 28, 2000 Letter Order in the above-referenced docket (June 28 Order). Midwestern Gas Transmission Company, 91 FERC ¶ 61,299 (2000). Midwestern further states that the June 28 Order required Midwestern to file revised tariff language to clarify the requirements of the waiver set forth in 18 CFR 284.8(i) of the Commission's regulations.

Any person desiring to protest this filing should file a protest with the Federal Energy Regulatory Commission, 888 first Street, N.E., Washington, D.C. 20426, in accordance with Section 385.211 of the Commission's Rules and Regulations. All such protest must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-18306 Filed 7-19-00; 8:45 am]

BILLING CODE 6717-01-M